DEPARTMENT OF ENERGY

Federal Energy Regulatory Commission

[Docket No. RP00-529-000]

Iroquois Gas Transmission System, L.P.; Notice of Tariff Filing

September 7, 2000.

Take notice that on September 1, 2000, Iroquois Gas Transmission System, L.P. (Iroquois) tendered for filing as part of its FERC Gas Tariff, First Revised Volume No. 1, the following tariff sheets with the proposed effective date of September 1, 2000.

Twenty-Eighth Revised Sheet No. 4

First Revised Sheet No. 84A

Second Revised Sheet No. 88

Third Revised Sheet No. 93A

Fourth Revised Sheet No. 94

Fourth Revised Sheet No. 95

First Revised Sheet No. 95A

Third Revised Sheet No. 96

First Revised Sheet No. 96A

Second Revised Sheet No. 97

Third Revised Sheet No. 102

Third Revised Sheet No. 105

Original Sheet No. 105A

Fourth Revised Sheet No. 106

Second Revised Sheet No. 106A

Third Revised Sheet No. 161

Third Revised Sheet No. 162

Iroquois makes the instant tariff filing to implement the directives of Order Nos. 637 and 637-A regarding the lifting of the rate ceiling for short-term capacity release transactions and certain reporting requirements.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23453 Filed 9-12-00; 8:45 am]

BILLING CODE 6717-01-M